NATIONAL AERONAUTICS AND SPACE ADMINISTRATION

[Notice: 04-147]

Notice: Correction

AGENCY: National Aeronautics and Space Administration (NASA).

SUMMARY: In the Federal Register issue of Friday, May 7, 2004 (Volume 69, No. 89), pgs. 25613-25615, Notice [04-060], make the following corrections: “Security Classification: Some of the material contained in the system has been classified in the interests of national security pursuant to Executive Order 11652.” should read “Security Classification: Some of the material contained in the system has been classified in the Interests of national security pursuant to Executive Order 12958, as amended.”

FOR FURTHER INFORMATION CONTACT: Elizabeth Richardson, Associate Counsel to the Inspector General, (202) 358-2548.

Patti F. Stockman,
NASA Privacy Act Officer.

[FR Doc. 04-27560 Filed 12-15-04; 8:45 am]

BILLING CODE 7510-13-P